FEDERAL COMMUNICATIONS COMMISSION

47 CFR Parts 54 and 69

[CC Docket Nos. 96-45, 98-77, 98-166, and 00-256; FCC 01-304]

Multi-Association Group (MAG) Plan for Regulation of Interstate Services of Non-Price Cap Incumbent Local Exchange Carriers and Interexchange Carriers; Federal-State Joint Board on Universal Service

AGENCY: Federal Communications Commission.

ACTION: Final rule; announcement of effective date.

SUMMARY: This document announces the effective date of certain sections of the Commission's rules for reforming the interstate access charge and universal service support system for incumbent local exchange carriers subject to rate-of-return regulation (non-price cap or rate-of-return carriers) that contained information collection requirements.

DATES: The amendments to 47 CFR 47 54.307(b), 54.307(c), 54.315(a), 54.315(f)(1) through 54.315(f)(4), 54.902(a), 54.902(b), 54.902(c), 54.903(a)(1) through 54.903(a)(4), 54.904(a), 54.904(b), and 54.904(d) published at 66 FR 59719, November 30, 2001, became effective on January 8, 2002.

FOR FURTHER INFORMATION CONTACT: William Scher, Attorney, Common Carrier Bureau, Accounting Policy Division, (202) 418-7400; Douglas Slotten, Attorney, Common Carrier Bureau, Competitive Pricing Division, (202) 418-1520.

SUPPLEMENTARY INFORMATION: On May 23, 2001, the Commission released a Second Report and Order and Further Notice of Proposed Rulemaking in CC Docket Nos. 00-256, Fifteenth Report and Order in CC Docket No. 96-45, and Report and Order in CC Docket No. 98-77 and 98-166 (Order). In that Order the Commission modified its rules to reform the interstate access charge and universal service support system for incumbent local exchange carriers subject to rate-of-return regulation (non-price cap or rate-of-return carriers). The Commission's actions were based on pending Commission proposals that build on interstate access charge reforms previously implemented for price cap carriers, the record developed in the above-stated proceedings, and consideration of the Multi-Association Group (MAG) plan. A summary of the Order was published in the Federal Register. See 66 FR 59719, November 30, 2001. In that summary, the Commission stated that the modified rules would become effective 30 days after publication in the Federal Register except for §§ 54.307(b), 54.307(c), 54.315(a), 54.315(f)(1) through 54.315(f)(4), 54.902(a), 54.902(b), 54.902(c), 54.903(a)(1) through 54.903(a)(4), 54.904(a), 54.904(b), and 54.904(d) which contain information collection requirements that have not been approved by OMB and that the Commission will publish a document in the Federal Register announcing the effective date of those sections. On December 14, 2001, OMB approved the information collections. See OMB No. 3060-0972. The rule amendments adopted by the Commission in the Order took effect 30 days after publication of the Order in the Federal Register, which was December 31, 2001. The OMB approval of the information collection requirements was announced in the Federal Register on January 8, 2002. Therefore, the effective date of the information collection requirements and the rules became effective January 8, 2002.

List of Subjects

47 CFR Part 54

Reporting and recordkeeping requirements, Telecommunications, Telephone.

47 CFR Part 69

Communications common carriers, Reporting and recordkeeping requirements, Telephone.

Federal Communications Commission.
William F. Caton,
Acting Secretary.

[FR Doc. 02-7998 Filed 4-1-02; 8:45 am]

BILLING CODE 6712-01-P